DEPARTMENT OF HEALTH AND HUMAN SERVICES

Administration for Children and Families

New Policies and Procedural Requirements for the Electronic Submission of Discretionary Grant Applications

AGENCY: Division of Grants Policy, Office of Administration, ACF, HHS.

ACTION: Notice of new policies and procedural requirements for the electronic submission of discretionary grant applications.

Overview Information: The Deputy Assistant Secretary for Administration, Administration for Children and Families (ACF), Department of Health and Human Services (HHS), announces new policies and procedural requirements for the electronic submission of discretionary grant applications through the government-wide grants application site, http://www.Grants.gov and through http://www.GrantSolutions.gov; effective January 1, 2012.

DATES: Submit written or electronic comments on or before December 27, 2011.

ADDRESSES: Submit written or electronic comments concerning this notice to Karen Shields, Grants Policy Specialist, Department of Health and Human Services, Administration for Children and Families, Division of Grants Policy, 370 L'Enfant Promenade, SW., Aerospace Building, 6th Floor East, Washington, DC 20447. E-mail address: karen.shields@acf.hhs.gov. Delays may occur in mail delivery to Federal offices; therefore, a copy of comments should be faxed to (202) 205-6400. Comments will be available for inspection by members of the public at the Office of Administration, Division of Grants Policy, 901 D Street, SW., Washington, DC 20447.

SUMMARY: The Administration for Children and Families (ACF), an Operating Division of HHS, announces the opportunity for public comment on its initial transition plan to implement required electronic submission of Federal discretionary grant applications and official grant file documents. In accordance with e-Government initiatives mandated by the Federal Financial Assistance Management Improvement Act of 1999, Public Law 106-107, ACF officially acknowledges that electronically generated and/or stored documents are recognized equivalents of an official paper grant file. Recognizing the equivalency of such documents eliminates duplicative effort and administrative burden for Federal grant applicants, recipients, and the awarding agency, by facilitating the submission and storage of official grant files. The ACF transition plan will begin with the required electronic submission of discretionary grant applications.

ACF has previously afforded applicants and recipients the option of submitting Federal discretionary grant applications in both electronic and paper formats. This notice announces that during the initial transition phase and thereafter, discretionary grant applicants and recipients are now required to submit competing, and non-competing continuation, grant applications electronically. The electronic portals used to support this effort are http://www.Grants.gov and http://www.GrantSolutions.gov.

Electronic Submission of Discretionary Grant Applications

• Competing Grant Applications—ACF will continue to post synopses of planned discretionary Funding Opportunity Announcements (FOAs) at the HHS Grants Forecast Web site http://www.hhs.gov/grantsforecast/and synopses of published FOAs on http://www.Grants.gov. Applicants will continue to use http://www.Grants.gov for their application submissions for discretionary awards. Full ACF FOAs are published at http://www.acf.hhs.gov/grants/index.html.

• Non-Competing Continuation Grant Applications—Guidance will be provided by ACF directly to existing grantees on the appropriate electronic system that will allow them to submit non-competing continuation applications to either http://www.Grants.gov or http://www.GrantSolutions.gov.

Universal Identifier (DUNS), CCR Registration, and Registration at http://www.Grants.gov.

Applicants that have not already done so should prepare for this transition by first obtaining a Data Universal Numbering System (DUNS) number at http://fedgov.dnb.com/webform and then registering with the Central Contractor Registration (CCR) at http://www.ccr.gov, a requirement that became mandatory for all applicants, grantees, and first-tier subawardees on October 1, 2010. Submission of electronic applications to http://www.Grants.gov by applicants not registered with the CCR will be rejected by that system.

About the Universal Identifier (DUNS Number) and Central Contractor Registration (CCR)

On September 14, 2010, the Office of Management and Budget (OMB) released the final version of a new award term 2 CFR Part 25, Universal Identifier and Central Contractor Registration (75 FR 55671). It codified two existing guidance documents relating to registration with the Central Contractor Registry (CCR) and obtaining a Dun & Bradstreet Universal Numbering System (DUNS) number.

The DUNS/CCR award term in 2 CFR Part 25 requires recipients to maintain the currency of their CCR registration, until they submit their final required financial report under an award, or until they receive final payment, whichever is later. CCR registration must be updated annually and is required of all applicants using the Grants.gov portal.

About www.Grants.gov

Applicants can immediately start searching the FIND section of http://www.Grants.gov for Federal grant opportunities. Applicants can also register at http://www.Grants.gov to receive automatic email notifications of new grant opportunities as they are posted. To prepare to use the APPLY function at http://www.Grants.gov, ACF strongly recommends that applicants immediately initiate and complete the “Get Started” steps to register with Grants.gov at http://www.grants.gov/applicants/get_registered.jsp. Although the steps can be completed within a few days in many cases, we strongly advise against waiting until a specific funding opportunity is announced before initiating the Grants.gov registration process to avoid unexpected delays that could result in the rejection of your application.

Organizations that are already registered at Grants.gov, please note that accounts that are inactive for one calendar year will be deactivated.

Please Note: Applicant passwords at Grants.gov now expire every 90 days. Registered applicants will receive two email notifications before their passwords expire. There is now an option for applicants to request a system-generated password through an email message. Accounts will lock for 15 minutes if the user provides the wrong password three consecutive times within a five-minute period.

Change in Submission Time for Electronically Submitted Discretionary Grant Applications

With the implementation of electronic submission of discretionary grant applications via Grants.gov, ACF will extend the timeframe for application receipt from 4:30 p.m., E.T., to 11:59 p.m., E.T. Applications received at or after 12 a.m., E.T., of the day following the application due date will be designated as late and will be disqualified from competition. Proof of receipt (date and time stamp) is provided by the Grants.gov system.

The cutoff for receipt of hard copy/paper applications by those applicants that have obtained a waiver (see the Exceptions to the Electronic Submission Requirement and Waivers section of this notice) will remain at 4:30 p.m., E.T.

Exceptions to the Electronic Submission Requirement and Waivers

ACF recognizes that segments of the applicant community may have limited or no Internet access, and/or limited computer capacity, which may prohibit them from uploading large files to the Internet at http://www.Grants.gov and/or http://www.GrantSolutions.gov. To accommodate such applicants, ACF is instituting a waiver procedure, on a case-by-case basis, that will allow such applicants to submit hard copy, paper grant applications by hand-delivery, applicant courier, overnight/express mail couriers, or other representatives of the applicant.

Applicants will be required to submit a written statement to ACF that the applicant qualifies for a waiver under one of these grounds: Lack of Internet access; or limited computer capacity that prevents the uploading of large files to the Internet. The written statement must be sent to the Grants Management Contact listed in Section VII. in all published discretionary FOAs, and must include the FOA Title, Funding Opportunity Number (FON), the listed Catalog of Federal Domestic Assistance (CFDA) number and the reason for which the applicant is requesting a waiver. Waiver requests may be submitted by mail or by email. The request must be received by ACF no later than two weeks before the application due date, that is, 14 calendar days prior to the application due date listed in the FOA, or if the fourteenth calendar day falls on a weekend or Federal holiday, the next Federal business day following the Federal holiday. Complete instructions on the waiver option will appear in all published FOAs announcing the availability of discretionary grants.

Additionally, on a case-by-case basis, ACF will consider requests to accept hard copy, paper submissions of grant applications when circumstances such as natural disasters occur (floods, hurricanes, etc.); or when there are widespread disruptions of mail service; or in other rare cases that would prevent electronic submission of the documents.

In all cases, the decision to allow a waiver to accept submission of hard copy, paper applications will rest with the Grants Management Officer listed in Section VII of each discretionary FOA and/or Notice of Award (NOA).

Hard copy/paper applications for new awards, submitted by applicants without prior approval of a waiver within the required timeframe, will be considered non-responsive and will be disqualified from competition and objective review. The waiver process will not apply to applications for non-competing continuation grants.

Records Retention

The HHS regulations at 45 CFR 92.42 (State, Local, and Tribal Governments) and 45 CFR 74.53 (Institutions of Higher Education, Hospitals, Other Nonprofit Organizations, and Commercial Organizations) pertaining to the retrieval, retention, disposition and destruction of official grant files remain in effect for electronically submitted documents.

Future Implementation

This guidance represents the initial phase of ACF's transition to required electronic submission of all official grant documents. ACF will continue to communicate transition plans for other documents as they evolve and will provide the applicant and recipient communities, and the general public, with sufficient notice of implementation details. In general, notices will be published in the Federal Register at least 60 days before the implementation becomes effective.

FOR FURTHER INFORMATION CONTACT: Karen Shields, Grants Policy Specialist, Department of Health and Human Services, Administration for Children and Families, OA/Division of Grants Policy, 370 L'Enfant Promenade, SW., Aerospace Building, 6th Floor East, Washington, DC 20447. Email: karen.shields@acf.hhs.gov. Fax: (202) 205-6400.

Dated: October 21, 2011.
Jason Donaldson,
Deputy Assistant Secretary for Administration, Administration for Children and Families.

[FR Doc. 2011-27878 Filed 10-26-11; 8:45 am]

BILLING CODE 4184-01-P